DEPARTMENT OF LABOR

Employee Benefits Security Administration

151st Meeting of the Advisory Council on Employee Welfare and Pension Benefit Plans; Notice of Meeting

Pursuant to the authority contained in Section 512 of the Employee Retirement Income Security Act of 1974 (ERISA), 29 U.S.C. 1142, the 151st open meeting of the Advisory Council on Employee Welfare and Pension Benefit Plans will be held on June 29-July 1, 2010.

The three-day meeting will take place in C-5310 Room 1-B, U.S. Department of Labor, 200 Constitution Avenue, NW., Washington, DC 20210. The purpose of the open meeting, which will run from 9 a.m. to approximately 5 p.m. on June 29 and 30, and from 8:30 a.m. to approximately 4 p.m. on July 1, with a one-hour break for lunch, is for Advisory Council members to hear testimony from invited witnesses and to receive an update from the Employee Benefits Security Administration (EBSA). The EBSA update is scheduled for June 30, subject to change.

The Advisory Council will study the following issues: (1) Employee Benefit Plan Auditing and Financial Reporting Models, (2) Disparities for Women and Minorities in Retirement and Health Care, and (3) Healthcare Literacy. The schedule for testimony and discussion of these issues generally will be one issue per day in the order noted above. Descriptions of these topics are available on the Advisory Council page of the EBSA Web site, at http://www.dol.gov/ebsa/aboutebsa/erisa_advisory_council.html.

Organizations or members of the public wishing to submit a written statement may do so by submitting 30 copies on or before June 15, 2010, to Larry Good, Executive Secretary, ERISA Advisory Council, U.S. Department of Labor, Suite N-5623, 200 Constitution Avenue, NW., Washington, DC 20210. Statements also may be submitted as e-mail attachments in text or pdf format transmitted to good.larry@dol.gov. It is requested that statements not be included in the body of the e-mail. Relevant statements received on or before June 15, 2010, will be included in the record of the meeting and posted on the Advisory Council page of the EBSA Web site. Individuals or representatives of organizations wishing to address the Advisory Council should forward their requests to the Executive Secretary or telephone (202) 693-8668. Oral presentations will be limited to ten minutes, time permitting, but an extended statement may be submitted for the record. Individuals with disabilities who need special accommodations should contact Larry Good by June 22 at the address indicated.

Signed at Washington, DC, this 10th day of May 2010.
Michael L. Davis,
Deputy Assistant Secretary, Employee Benefits Security Administration.

[FR Doc. 2010-11436 Filed 5-12-10; 8:45 am]

BILLING CODE 4510-29-P